FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 29, 2012.

A. Federal Reserve Bank of Cleveland (Nadine Wallman, Vice President) 1455 East Sixth Street, Cleveland, Ohio 44101-2566:

1. Tonti Financial Corp Trust, Tonti Financial Corp Trust II, The Alfred E. Tonti Trust, and their trustee, Thomas Tonti, all of Columbus, Ohio; to acquire voting shares of Tonti Financial Corp, Columbus, Ohio, and thereby indirectly acquire voting shares of First Bank of Ohio, Tiffin, Ohio.

B. Federal Reserve Bank of Minneapolis (Jacqueline G. King, Community Affairs Officer) 90 Hennepin Avenue, Minneapolis, Minnesota 55480-0291:

1. Douglas Osborne and Donald Osborne, both of Ham Lake, Minnesota, as a group acting in concert, and Kenneth M. Welle and Lori M. Welle, both of Dayton, Minnesota; to acquire voting shares of Community Pride Bank Corporation, Ham Lake, Minnesota, and thereby indirectly acquire voting shares of Community Pride Bank, Isanti, Minnesota.

Board of Governors of the Federal Reserve System, October 9, 2012.
Robert deV. Frierson,
Secretary of the Board.

[FR Doc. 2012-25120 Filed 10-11-12; 8:45 am]

BILLING CODE 6210-01-P